LIBRARY OF CONGRESS

Copyright Royalty Board

[Docket No. CONSOLIDATED 16-CRB-0009-CD (2014-17)]

Distribution of Cable Royalty Funds

AGENCY: Copyright Royalty Board, Library of Congress.

ACTION: Notice requesting comments.

SUMMARY: The Copyright Royalty Judges solicit comments on a motion of Multigroup Claimants for partial distribution of 2015-2017 cable royalty funds.

DATES: Comments are due on or before October 13, 2021.

ADDRESSES: Interested claimants must submit timely comments using eCRB, the Copyright Royalty Board's online electronic filing application, at https://app.crb.gov/.

Instructions: All submissions must include a reference to the CRB and docket number CONSOLIDATED 16-CRB-0009-CD (2014-17). All submissions will be posted without change to eCRB at https://app.crb.gov/ including any personal information provided.

Docket: For access to the docket to read submitted documents, go to eCRB, the Copyright Royalty Board's electronic filing and case management system, at https://app.crb.gov/ and search for docket number CONSOLIDATED 16-CRB-0009-CD (2014-17).

FOR FURTHER INFORMATION CONTACT: Anita Blaine, Program Specialist, 202-707-7658, crb@loc.gov.

SUPPLEMENTARY INFORMATION: Each year cable systems must submit royalty payments to the Register of Copyrights as required by the statutory license set forth in sec. 111 of the Copyright Act for the retransmission to cable subscribers of over-the-air television and radio broadcast signals. See 17 U.S.C. 111(d). The Copyright Royalty Judges (Judges) oversee distribution of royalties to copyright owners whose works were included in a qualifying transmission and who timely filed a claim for royalties.

Allocation of the royalties collected occurs in one of two ways. In the first instance, the Judges may authorize distribution in accordance with a negotiated settlement among all claiming parties. 17 U.S.C. 111(d)(4)(A). If all claimants do not reach agreement with respect to the royalties, the Judges must conduct a proceeding to determine the distribution of any royalties that remain in controversy. 17 U.S.C. 111(d)(4)(B). Alternatively, the Judges may, on motion of claimants and on notice to all interested parties, authorize a partial distribution of royalties, reserving on deposit sufficient funds to resolve identified disputes. 17 U.S.C. 111(d)(4)(C), 801(b)(3)(C).

On July 23, 2021, Worldwide Subsidy Group LLC dba Multigroup Claimants (MGC) filed with the Judges a motion requesting partial distributions in the amount of $893,086 from the 2015 cable royalty fund, $842,586 from the 2016 cable royalty fund, and $839,111 from the 2017 cable royalty fund, pursuant to sec. 801(b)(3)(C) of the Copyright Act. 17 U.S.C. 801(b)(3)(C). Motion at 5.¹ MGC represents that the partial distribution amounts it requests are based on a formula that MGC developed that takes into consideration the amount of cable funds that have been collected for 2015, 2016, and 2017 and applying a “blended percentage of the aggregate cable funds attributable to 2010-2013 attributable to MGC's devotional programming claims.” Motion at 4-5.²

¹ The Motion can be found at https://app.crb.gov/document/download/25502.

² According to MGC, applying its formula to the cable royalties collected for 2015, 2016, and 2017, yields $1,786,172 (for 2015), $1,685,172 (for 2016), and $1,678,223 (for 2017). MGC requests 50% of these amounts. Motion at 5.

The Settling Devotional Claimants (SDC) opposed the Motion as well as a separate motion that MGC filed in the companion satellite docket. Settling Devotional Claimants' Opposition to Multigroup Claimants' Motion for Partial Distribution of 2015-2017 Cable and Satellite Royalty Funds (Opposition).³ MGC filed a Reply in support of its Motion. See Multigroup Claimants' Reply in Support of Motion for Partial Distribution of 2015-2017 Cable Royalties (Aug. 13, 2021).⁴

³ The Opposition can be found at https://app.crb.gov/document/download/25571.

⁴ The Reply can be found at https://app.crb.gov/document/download/25602.

Prior to ruling on a motion for partial distribution filed under § 801(b)(3)(C) of the Copyright Act, the Judges must publish a notice in the Federal Register to determine whether any interested claimant entitled to receive such royalty fees has a reasonable objection to the partial distribution. Accordingly, this Notice seeks comments from interested claimants on whether any reasonable objection exists that would preclude the distribution to MGC of the requested amounts from the 2015-2017 cable royalty funds. As the Judges have commenced a distribution proceeding concerning 2014-2017 cable royalties, only claimants that have filed petitions to participate in the proceeding (or are included in a petition to participate filed on their behalf) are “interested claimants” for purposes of this Notice. Interested claimants objecting to the partial distribution must advise the Judges of the existence and extent of all objections by the end of the comment period. The Judges will not consider any objections with respect to the partial distribution motion that come to their attention after the close of the comment period.⁵

⁵ The Judges deem the SDC's Opposition and MGC's Reply to constitute timely comments and will consider them, together with any other comments they receive during the comment period, in determining whether any reasonable objection exists that would preclude the requested distribution to MGC.

Dated: September 8, 2021.
Jesse M. Feder,
Chief Copyright Royalty Judge.

[FR Doc. 2021-19696 Filed 9-10-21; 8:45 am]

BILLING CODE 1410-72-P